OFFICE OF PERSONNEL MANAGEMENT

5 CFR PART 630

RIN 3206-AJ51

Absence and Leave; Use of Restored Annual Leave

AGENCY: Office of Personnel Management.

ACTION: Final rule.

SUMMARY: The Office of Personnel Management is issuing final regulations to aid agencies and employees responding to the “National Emergency by Reason of Certain Terrorist Attacks” on the World Trade Center and the Pentagon. The regulations provide that employees who forfeit excess annual leave because of their work to support the Nation during this national emergency are deemed to have scheduled their excess annual leave in advance. Such employees are entitled to restoration of their annual leave under these regulations.

EFFECTIVE DATE: April 3, 2002.

FOR FURTHER INFORMATION CONTACT: Sharon Herzberg, (202) 606-2858, FAX (202) 606-4264, or e-mail: payleave@opm.gov.

SUPPLEMENTARY INFORMATION: On September 14, 2001, President Bush declared a “National Emergency by Reason of Certain Terrorist Attacks” on the World Trade Center and the Pentagon. On November 2, 2001, the Office of Personnel Management (OPM) published interim regulations (66 FR 5557) to provide relief to Federal employees who otherwise would have forfeited excess annual leave at the end of the leave year because of their involvement in efforts connected with the national emergency. The interim regulations became effective on December 3, 2001. Many agencies are involved in activities vital to our Nation as a result of the unprecedented events of September 11, 2001, the efforts toward recovery and response, and the continuing threat of further attacks on the United States. As a result, many Federal employees involved in these activities were unable to schedule and use excess annual leave and would have forfeited that leave at the end of the leave year. The interim regulations simplified the restoration of these employees' forfeited annual leave and imposed relaxed time limitations for using restored annual leave.

The 60-day comment period ended on January 2, 2002. We received no formal comments from either agencies or individuals. In informal comments, agency representatives expressed their satisfaction with the regulations. As a result, we believe no changes are necessary in the interim regulations. Therefore, we are adopting as final the interim rule providing that excess annual leave forfeited by employees who were unable to schedule and use their leave due to their involvement in national emergency efforts is deemed to have been scheduled in advance and therefore eligible for restoration.

Regulatory Flexibility Act

I certify that these regulations will not have a significant economic impact on a substantial number of small entities because they will affect only Federal agencies and employees.

E.O. 12866, Regulatory Review

The Office of Management and Budget has reviewed this rule in accordance with Executive Order 12866.

List of Subjects in 5 CFR Part 630

Government employees.

Office of Personnel Management.
Kay Coles James,
Director.

Accordingly, under the authority of 5 U.S.C. 6304(d)(2), the Office of Personnel Management adopts the interim regulations amending subpart C of 5 CFR part 630, published at 66 FR 55557 on November 2, 2001, as final.

[FR Doc. 02-5063 Filed 3-1-02; 8:45 am]

BILLING CODE 6325-01-P